DEPARTMENT OF JUSTICE

Notice of Lodging of Proposed Joint Stipulation, Settlement Agreement, Order, and Final Judgment Under the Oil Pollution Act and the Clean Water Act

On June 19, 2017, the Department of Justice lodged a proposed Stipulation, Settlement Agreement, Order, and Final Judgment (“Stipulation”) with the United States District Court for the District of Connecticut in the lawsuit entitled Evergreen Power, LLC and Asnat Realty, LLC v. United States, et al., Civil Action No. 3:14-cv-01537-WWE.

The Stipulation resolves the claims that Evergreen Power, LLC (“Evergreen”) and Asnat Realty, LLC (“Asnat”) filed against the United States, the U.S. Coast Guard, and Captain E.J. Cubanski, III; and the claims that the United States filed against Asnat, Evergreen, Uri Kaufman, and Ira Schwartz (collectively the Counterclaim Defendants”). The United States' Counterclaim seeks to impose civil penalties for violations of Section 311 of the Clean Water Act and to recover, under the Oil Pollution Act, removal costs incurred by the United States in connection with a 2014 response action at the English Station site at 510 Grand Avenue, New Haven, Connecticut. The Stipulation requires Asnat and Evergreen to pay $454,000 to fully reimburse the United States' oil removal costs, with interest, plus a $246,000 civil penalty. Under the Stipulation, the United States and the Counterclaim Defendants will dismiss their claims and provide mutual releases of liability, and the Counterclaim Defendants covenant not to sue or assert any claims against the United States in connection with the 2014 response action.

The publication of this notice opens a period for public comment on the Stipulation. Comments should be addressed to the Assistant Attorney General, Environment and Natural Resources Division, and should refer to Evergreen Power, LLC and Asnat Realty, LLC v. United States, et al., D.J. Ref. No. 90-5-1-1-11228. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulation may be examined and downloaded at this Justice Department Web site: https://www.justice.gov/enrd/consent-decrees. We will provide a paper copy of the Stipulation upon written request and payment of reproduction costs. Please mail your request and payment to: Consent Decree Library, U.S. DOJ—ENRD, P.O. Box 7611, Washington, DC 20044-7611.

Please enclose a check or money order for $2.50 (25 cents per page reproduction cost) payable to the United States Treasury.

Robert E. Maher, Jr.,
Assistant Section Chief, Environmental Enforcement Section, Environment and Natural Resources Division.

[FR Doc. 2017-13333 Filed 6-26-17; 8:45 am]

BILLING CODE 4410-15-P